DEPARTMENT OF COMMERCE

National Oceanic and Atmospheric Administration

50 CFR Part 648

[Docket No. 030514123-3162-02; I.D. 041003B]

RIN 0648-AQ76

Fisheries of the Northeastern United States; Northeast Multispecies Fishery; Framework Adjustment 38 to the Northeast Multispecies Fishery Management Plan; Correcting Amendment

AGENCY: National Marine Fisheries Service (NMFS), National Oceanic and Atmospheric Administration (NOAA), Commerce.

ACTION: Final rule; correcting amendment.

SUMMARY: NMFS issued a final rule to implement measures contained in Framework Adjustment 38 (Framework 38) to the Northeast (NE) Multispecies Fishery Management Plan (FMP) to exempt a fishery from the Gulf of Maine (GOM) Regulated Mesh Area mesh size regulations. The final rule implementing Framework 38 was published in the Federal Register on July 9, 2003. One of the coordinates contained in the Gulf of Maine (GOM) Grate Raised Footrope Trawl Whiting Fishery Exemption Area table was incorrect. NMFS published a correcting amendment on July 25, 2003. However, in the correction document, the headings in the three columns of the table, GOM Grate Raised Footrope Trawl Whiting Fishery Exemption Area, are incorrect. This document corrects those errors.

DATES: This regulation is effective August 8, 2003.

FOR FURTHER INFORMATION CONTACT: E. Martin Jaffe, Fishery Policy Analyst, 978-281-9272.

SUPPLEMENTARY INFORMATION:

Need for the Correction

The final rule implementing measures contained in Framework 38 to the FMP was published in the Federal Register on July 9, 2003 (68 FR 40810), and became effective on the date of publication. The North Latitude coordinate for Point GRF5 (44° 58.5′) in the table, GOM Grate Raised Footrope Trawl Whiting Fishery Exemption Area, contained in § 648.80(a)(16), was incorrect in the final rule document. A final rule; correcting amendment was published in the Federal Register on July 25, 2003 (68 FR 43974). That document corrected the North Latitude coordinate for Point GRF5, which is 43° 58.8′. However, in the correction document published July 25, 2003, the headings contained in the table in § 648.80(a)(16) were incorrect.

Therefore, because the final rule published on July 25, 2003, which was the subject of FR Doc. 03-18894, contained incorrect table headings in § 648.80(a)(16), on page 43974, in the first column of the table the column heading “Point N.” is removed and in its place “Point” is added. In the second column of the table the column heading “Lat.W.” is removed and in its place “N. Lat.” is added. In the third column the heading “Long.” is removed and in its place “W. Long.” is added.

This document corrects the table under § 648.80(a)(16) as follows:

List of Subjects in 50 CFR Part 648

Fishing, Fisheries, Reporting and recordkeeping requirements.

For the reasons stated in the preamble, 50 CFR part 648 is correctly amended to read as follows:

PART 648—FISHERIES OF THE NORTHEASTERN UNITED STATES

1. The authority citation for part 648 continues to read as follows:

Authority: 16 U.S.C. 1801 et seq.

2. In § 648.80, the table contained in paragraph (a)(16) is corrected to read as follows:

§ 648.80 Multispecies regulated mesh areas and restrictions on gear and methods of fishing.

* * * * *

(a) * * *

(16) * * *

GOM GRATE RAISED FOOTROPE TRAWL WHITING FISHERY EXEMPTION AREA
(July 1 through November 30)
Point | N. Lat. | W. Long.
GRF1 | 43° 15′ | 70° 35.4′
GRF2 | 43° 15′ | 70° 00′
GRF3 | 43° 25.2′ | 70° 00′
GRF4 | 43° 41.8′ | 69° 20′
GRF5 | 43° 58.8′ | 69° 20′

* * * * *

Dated: August 4, 2003.
Rebecca Lent,
Deputy Assistant Administrator for Regulatory Programs, National Marine Fisheries Service.

[FR Doc. 03-20286 Filed 8-7-03; 8:45 am]

BILLING CODE 3510-22-S